DEPARTMENT OF HEALTH AND HUMAN SERVICES

National Institutes of Health

Center for Scientific Review; Amended Notice of Meeting

Notice is hereby given of a change in the meeting of the Center for Scientific Review Special Emphasis Panel, July 16, 2001, 9 a.m. to July 16, 2001, 5 p.m., Holiday Inn, 8777 Georgia Avenue, Silver Spring, MD, 20910 which was published in the Federal Register on July 5, 2001, 66 FR 35446-35449.

The meeting will be held on July 19, 2001. The time and location remain the same. The meeting is closed to the public.

Dated: July 10, 2001.
LaVerne Y. Stringfield,
Director, Office of Federal Advisory Committee Policy.

[FR Doc. 01-17737 Filed 7-13-01; 8:45 am]

BILLING CODE 4140-01-M